DEPARTMENT OF JUSTICE

Antitrust Division

Notice Pursuant to The National Cooperative Research and Production Act of 1993—The Asymmetrical Digital Subscriber Line Forum

Notice is hereby given that, on January 25, 2001, pursuant to Section 6(a) of the National Cooperative Research and Production Act of 1993, 15 U.S.C. § 4301 et seq. (“the Act”), The Asymmetrical Digital Subscriber Line Forum (“ADSL”) has filed written notification simultaneously with the Attorney General and the Federal Trade Commission disclosing changes in its membership status. The notifications were filed for the purpose of extending the Act's provisions limiting the recovery of antitrust plaintiffs to actual damages under specified circumstances. Specifically, Sheer Networks, Sunnyvale, CA; Navini Networks, Plano, TX; Sapphore Communications, Santa Clara, CA; Garnet Systems Co., Seoul, REPUBLIC OF KOREA; Birch Telecom, Kansas City, MO; BroadJump, Austin, TX; DSLB it Hantro Oy, Oulu, FINLAND; and eAccess Ltd., Tokyo, JAPAN have been added as parties to this venture. Also, the following companies have changed their names: Concentric Networks, San Jose, CA is now XO Communications, San Jose, CA; Digicom Systems, Milpitas, CA is now broadxent, Milpitas, CA; Silicon Automated Systems, Bangalore, INDIA is now Sasken Communication Technologies, Bangalore, INDIA; Telesoft International, Alta Loma, CA is now Broadframe Corp., Alta Loma, CA; Helsinki, Helsinki, FINLAND is now Elisa Communications, Helsinki, FINLAND; Acterna, Salem, VA is not TTC, Germantown, MD; and DSL Testworks, Nepean, Ontario, CANADA is now Spirent, Nepean, Ontario, CANADA.

No other changes have been made in either the membership or planned activity of the group research project. Membership in this group research project remains open, and ADSL intends to file additional written notifications disclosing all changes in membership.

On May 15, 1995, ADSL filed its original notification pursuant to Section 6(a) of the Act. The Department of Justice published a notice in the Federal Register pursuant to Section 6(b) of the Act on July 25, 1995 (60 FR 38058).

The last notification was filed with the Department on November 20, 2000. A notice for this filing has not yet been published in the Federal Register.

Constance K. Robinson,
Director of Operations, Antitrust Division.

[FR Doc. 01-13039 Filed 5-22-01; 8:45 am]

BILLING CODE 4410-11-M